DEPARTMENT OF ENERGY

Federal Energy Regulatory Commission

Combined Notice of Filings #1

Take notice that the Commission received the following electric corporate filings:

Docket Numbers: EC12-97-000.

Applicants: Avenal Park LLC, Sand Drag LLC, Sun City Project LLC, NRG Solar Blythe LLC.

Description: Application of Avenal Park LLC, et al. for Authorization of Disposition of Jurisdictional Facilities and Requests for Confidential Treatment and Expedited Consideration.

Filed Date: 5/3/12.

Accession Number: 20120503-5123.

Comments Due: 5 p.m. ET 5/24/12.

Take notice that the Commission received the following exempt wholesale generator filings:

Docket Numbers: EG12-65-000.

Applicants: Bethel Wind Energy LLC.

Description: Notice of Self-Certification as an Exempt Wholesale Generator of Bethel Wind Energy LLC.

Filed Date: 5/3/12.

Accession Number: 20120503-5098.

Comments Due: 5 p.m. ET 5/24/12.

Docket Numbers: EG12-66-000.

Applicants: Rippey Wind Energy LLC.

Description: Notice of Self-Certification as an Exempt Wholesale Generator of Rippey Wind Energy LLC.

Filed Date: 5/3/12.

Accession Number: 20120503-5100.

Comments Due: 5 p.m. ET 5/24/12.

Take notice that the Commission received the following electric rate filings:

Docket Numbers: ER11-2875-006.

Applicants: PJM Interconnection, L.L.C.

Description: Compliance Filing per 4/4/2012 Order in ER11-2875 to be effective 12/19/2011 to be effective 12/19/2011.

Filed Date: 5/4/12.

Accession Number: 20120504-5119.

Comments Due: 5 p.m. ET 5/25/12.

Docket Numbers: ER11-2875-007.

Applicants: PJM Interconnection, L.L.C.

Description: Compliance Filing per 4/4/2012 Order in ER11-2875 to be effective 1/31/2012 to be effective 1/31/2012.

Filed Date: 5/4/12.

Accession Number: 20120504-5125.

Comments Due: 5 p.m. ET 5/25/12.

Docket Numbers: ER11-2875-008.

Applicants: PJM Interconnection, L.L.C.

Description: Compliance Filing per 4/4/2012 Order in ER11-2875 to be effective 6/30/2012 to be effective 6/30/2012.

Filed Date: 5/4/12.

Accession Number: 20120504-5137.

Comments Due: 5 p.m. ET 5/25/12.

Docket Numbers: ER12-1571-001.

Applicants: Verso Bucksport LLC.

Description: Amendment to MBR Application to be effective 6/18/2012.

Filed Date: 5/4/12.

Accession Number: 20120504-5114.

Comments Due: 5 p.m. ET 5/25/12.

Docket Numbers: ER12-1633-001.

Applicants: U.S. Energy Partners, LLC.

Description: U.S. Energy Amendment to Baseline MBR Filing to be effective 7/1/2012.

Filed Date: 5/4/12.

Accession Number: 20120504-5134.

Comments Due: 5 p.m. ET 5/25/12.

Docket Numbers: ER12-1715-000.

Applicants: Midwest Independent Transmission System.

Description: G578 LGIA Termination to be effective 7/4/2012.

Filed Date: 5/4/12.

Accession Number: 20120504-5053.

Comments Due: 5 p.m. ET 5/25/12.

Docket Numbers: ER12-1716-000.

Applicants: Your Energy Holdings, LLC.

Description: Market-Based Rates Application to be effective 6/27/2012.

Filed Date: 5/4/12.

Accession Number: 20120504-5084.

Comments Due: 5 p.m. ET 5/25/12.

Docket Numbers: ER12-1717-000.

Applicants: PJM Interconnection, L.L.C.

Description: Queue Position U2-077 & W1-001; Original Service Agreement No. 3313 to be effective 4/4/2012.

Filed Date: 5/4/12.

Accession Number: 20120504-5142.

Comments Due: 5 p.m. ET 5/25/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2012.
Nathaniel J. Davis, Sr.,
Deputy Secretary.

[FR Doc. 2012-11371 Filed 5-10-12; 8:45 am]

BILLING CODE 6717-01-P